DEPARTMENT OF LABOR

Employment and Training Administration

[TA-W-38,617; TA-W-38,617B]

Garan Manufacturing Corp; Amended Certification Regarding Eligibility To Apply for Worker Adjustment Assistance

In accordance with section 223 of the Trade Act of 1974 (19 USC 2273) the Department of Labor issued a Certification of Eligibility to Apply for Worker Adjustment Assistance on February 9, 2001, applicable to workers of Garan Manufacturing Corporation, Carthage, Mississippi. The notice was published in the Federal Register on April 5, 2001 (66 FR 18118).

At the request of the petitioners, the Department reviewed the certification for workers of the subject firm. The workers are engaged in the production of children's knitwear.

New information shows that worker separations occurred at Garan Manufacturing's General Offices located in Starkville, Mississippi. The general offices provide support functions including manufacturing management, accounting, quality control, engineering and customer service functions for the subject firms' production facilities including Carthage, Mississippi.

The intent of the Department's certification is to include all workers of Garan Manufacturing Corporation adversely affected by increased imports of children's knitwear.

Accordingly, the Department is amending the certification to properly reflect this matter.

The amended notice applicable to TA-W-38,617 is hereby issued as follows:

All workers of Garan Manufacturing Corporation, Carthage, Mississippi (TA-W-38,617) and General Offices, Starkville, Mississippi (TA-W-38,617B) who became totally or partially separated from employment on or after January 19, 2000, through February 9, 2003, are eligible to apply for adjustment assistance under Section 223 of the Trade Act of 1974.

Signed at Washington DC this 13th day of August, 2001.
Linda G. Poole,
Certifying Officer, Division of Trade Adjustment Assistance.

[FR Doc. 01-21850 Filed 8-28-01; 8:45 am]

BILLING CODE 4510-30-M